DEPARTMENT OF HEALTH AND HUMAN SERVICES

Administration for Children and Families

Proposed Information Collection Activity; Comment Request

Title: Measure Development: Quality of Family-Provider Relationships in Early Care and Education.

OMB No.: New collection.

Description

The Office of Planning, Research and Evaluation (OPRE), the Administration for Children and Families (ACF), U.S. Department of Health and Human Services (HHS), is proposing a data collection activity as part of the development of an early care and education (ECE) quality measurement tool to assess family-provider relationships that support positive child developmental outcomes and family wellbeing. The major goal of this project is to develop a measure of the quality of family-provider relationships that will be (1) applicable across multiple types of early care and education settings and diverse program structures (including Head Start/Early Head Start); (2) sensitive across cultures associated with racial, ethnic, and socioeconomic characteristics; and (3) reliable in both English and Spanish. At this time, four self-administered surveys (one for center- and home-based care directors, one for child care providers/teachers, and two for parents) and an environmental checklist have been developed, based on a literature review, a review of existing measures, and information collected through focus groups (under OMB Clearance 0970-0356) and cognitive interviews (under OMB Clearance 0970-0355).

To test these measures, two stages of data collection activities are proposed for this information collection request: A pilot test and a field test.

The pilot test data will be used to examine the distribution of the items and to determine whether they behave in a manner consistent with the conceptual model that was developed as part of the project. The pilot test will also test data collection procedures prior to conducting a large-scale field test. Any problematic items or procedures identified by the pilot test will be corrected and revisions submitted to OMB before the field test.

The purpose of the field test is to obtain sufficient data on a diverse population to enable full psychometric testing of the measures and compare subgroups to ensure that the measure can be used in diverse ECE settings.

Respondents: In both the pilot and the field tests, the respondents will include directors of center—based child care programs, home-based child care programs, Early Head Start programs, and Head Start programs; center-based and home-based child care providers and ECE teachers; and parents whose children are enrolled in these diverse types of ECE settings.

Annual Burden Estimate—Pilot and Field Tests
Instrument | Annual number of respondents | Number of responses per respondent | Average burden hours per response | Total annual burden hours
Screening questions | 945 | 1 | 0.05 | 47
Director Survey | 143 | 1 | 0.08 | 11
Provider/Teacher Survey | 253 | 1 | 0.17 | 43
Parent Survey about FSWs | 76 | 1 | 0.17 | 13
Parent Survey about Teachers | 475 | 1 | 0.17 | 81
Environmental Checklist | 945 | 1 | 0.17 | 161
Estimated Total Annual Burden Hours: 356.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: April 23, 2012.
Steven Hanmer,
Reports Clearance Officer.

[FR Doc. 2012-10305 Filed 4-30-12; 8:45 am]

BILLING CODE 4184-22-P